DEPARTMENT OF ENERGY

Federal Energy Regulatory Commission

[Project No. 2513-091]

Green Mountain Power Corporation; Notice of Application Tendered for Filing With the Commission and Establishing Procedural Schedule for Licensing and Deadline for Submission of Final Amendments

Take notice that the following hydroelectric application has been filed with the Commission and is available for public inspection.

a. Type of Application: New Major License.

b. Project No.: 2513-091.

c. Date Filed: February 28, 2023.

d. Applicant: Green Mountain Power Corporation (GMP).

e. Name of Project: Essex No. 19 Hydroelectric Project.

f. Location: On the Winooski River in Chittenden County, Vermont. The project does not affect Federal lands.

g. Filed Pursuant to: Federal Power Act, 16 U.S.C. 791(a)-825(r).

h. Applicant Contact: Mr. John Tedesco, Green Mountain Power Corporation, 163 Acorn Lane, Colchester, Vermont 05446; phone: (802) 655-8753 or email at John.Tedesco@greenmountainpower.com.

i. FERC Contact: Michael Tust at (202) 502-6522 or email at michael.tust@ferc.gov.

j. This application is not ready for environmental analysis at this time.

k. Project Description: The existing project consists of: (1) a 494-foot-long concrete gravity dam consisting of a 61-foot-high non-overflow concrete abutment section and three overflow spillway sections 46-foot-high and each topped by a 5-foot-high inflatable rubber dam; (2) a 268-acre impoundment; (3) a 78-foot-wide, 36-foot-high concrete intake structure with two concrete wing walls, a steel trashrack with one-inch bar spacing, and an embedded downstream fishway; (4) two 3-foot-diameter steel penstocks and four 9-foot-diameter steel penstocks each running parallel to each other and extending underground from the dam to the powerhouse with lengths ranging from 382.9 to 389.3 feet; (5) a 154.6-foot-long, 93.5-foot-wide, and 55.7-foot-high, reinforced-concrete and brick powerhouse located 400 feet downstream of the intake housing four horizontal Francis-type turbines with an installed capacity of 2,223 kilowatts (kW) each and four horizontal shaft generators rated at 1,800 kilowatts each as well as a double horizontal Francis-type turbine (i.e., minimum flow unit) with an installed capacity of 874 kW connected to a generator rated at 850 kW; (6) a 300-foot-long, 34.5-kilovolt overhead transmission line; and (7) appurtenant facilities. Green Mountain Power Corporation also owns and maintains the following recreation facilities: Overlook Park, an access site to the impoundment, an access site to the powerhouse tailrace area, and a canoe portage.

The downstream fish passage facility consists of two entrance gates each 3-feet-wide and 7.5-feet long located at the west end of the spillway. One entrance is located near the north end of the intake trashracks and the other is located closer to the center of the intake trashracks. The two entrances feed into a collection chamber behind the trashracks. The two collection chambers are connected via a 54-inch-diameter, 67-foot-long steel pipe which transports fish to an open channel sluice down the adjacent spillway and into a plunge pool. The plunge pool water level is controlled by a concrete weir with a bell-mouthed vertical slot with a 1-foot-wide opening which discharges flow into the bypassed reach.

GMP currently operates the project in a modified daily peaking mode while raising and lowering the impoundment level a maximum of 3 feet but now proposes to operate the project in run-of-river mode year-round while maintaining the impoundment at an elevation of 274.7 feet (under normal flow conditions). GMP would continue to provide minimum flows of 100 cubic feet per second (cfs) or inflow, if less, through the fish passage facility into the bypassed reach from April 15 through June 30 and from September 15 through December 15 and 50 cfs or inflow, if less, into the bypassed reach the remainder the year. The project has an average annual generation of 35,498 megawatt-hours.

l. Location of the Application: In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-2513). For assistance, contact FERC at FERCOnlineSupport@ferc.gov or call toll-free, (866) 208-3676 or (202) 502-8659 (TTY).

m. You may also register online at https://ferconline.ferc.gov/FERCOnline.aspx to be notified via email of new filings and issuances related to this or other pending projects. For assistance, contact FERC Online Support.

n. Procedural Schedule: The application will be processed according to the following preliminary Hydro Licensing Schedule. Revisions to the schedule may be made as appropriate.

Milestone | Target date
Issue Deficiency Letter (if necessary) | March 2023.
Issue Additional Information Request (if necessary) | April 2023.
Notice of Acceptance/Notice of Ready for Environmental Analysis | August 2023.
Filing of recommendations, preliminary terms and conditions, and fishway prescriptions | October 2023.

o. Final amendments to the application must be filed with the Commission no later than 30 days from the issuance date of the notice of ready for environmental analysis.

Dated: March 6, 2023.
Kimberly D. Bose,
Secretary.

[FR Doc. 2023-04996 Filed 3-9-23; 8:45 am]

BILLING CODE 6717-01-P